DEPARTMENT OF HEALTH AND HUMAN SERVICES

Centers for Disease Control and Prevention

[30Day-21-20QN]

Agency Forms Undergoing Paperwork Reduction Act Review

In accordance with the Paperwork Reduction Act of 1995, the Centers for Disease Control and Prevention (CDC) has submitted the information collection request titled “Availability, Use, and Public Health Impact of Emergency Supply Kits among Disaster-Affected Populations” to the Office of Management and Budget (OMB) for review and approval. CDC previously published a “Proposed Data Collection Submitted for Public Comment and Recommendations” notice on August 28, 2020 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Availability, Use, and Public Health Impact of Emergency Supply Kits among Disaster-Affected Populations—New—National Center for Environmental Health (NCEH), Centers for Disease Control and Prevention (CDC).

Background and Brief Description

The National Center for Environmental Health (NCEH) is submitting a New Information Collection Request (ICR), for two-year approval. NCEH will conduct this cross-sectional study among two disaster-affected populations, at one site per year. NCEH will select geographic sites (e.g., city, town, region) for inclusion in the study after a disaster (e.g., hurricane, wildfire, flood, tornado) has occurred in the area. Parameters for site selection include a major or state-level disaster declaration for a natural disaster that affects a mid- to high-density area (e.g., population of 100,000 people) within the United States.

An all-of-society approach to disaster risk reduction emphasizes inclusion and engagement in preparedness activities. A common recommendation is to promote household preparedness through the preparation of an emergency supply kit that can be used to shelter-in-place or during evacuation. Lack of household preparedness is a public health concern, especially in medically frail populations, because it consumes first responders' time, taking them away from relief and recovery efforts, and can easily deplete community health resources. The Federal Emergency Management Agency (FEMA) states that individuals or households are prepared for a disaster if they have thought about and planned for the types of disaster for which they are at most risk, have developed a family communication and evacuation plan in the event of a disaster, and have assembled a complete disaster (emergency) supply kit. However, the prevalence of emergency supply kits across households in the United States ranges considerably from a community-level low of 10% to a regional high of 68%. This lack and variation of emergency supply kits across households makes household disaster preparedness a public health concern.

Self-sufficiency (defined as the ability to shelter-in-place without needing to leave your home or call for outside assistance for ~3 days following a disaster) can help reduce the demands placed on first responders during critical times, which has downstream public health impacts. Among persons with an existing physical or mental health condition at the time of the disaster, having an adequate supply of prescription and over-the-counter medications and medical supplies allows people to maintain treatment and prevent worsening or exacerbation of their existing condition or illness. It also can reduce their need for emergency medical services following a disaster. The FEMA definition of an emergency supply kit is one that can sustain each member of a household with food, water, and medication for up to three days. However, there are several knowledge gaps and challenges related to emergency supply kit use and effectiveness, including whether the current recommendations are adequate or need expansion. We identified the following gaps:

• Lack of consistency for what supplies to include in an emergency supply kit: While the public can access information on what contents are likely important to include in emergency supply kits, there is a lack of information as to whether there is a standard set of supplies that is consistently needed across disaster types

• Lack of a standard tool for evaluation of emergency supply kit use and effectiveness

• Lack of information on how emergency supply kit items are used during or following disasters: Currently we lack detailed information on how households use emergency supply kit items during or following disasters and what, if any, are barriers to their use

• Lack of information on effectiveness of emergency supply kits in preventing adverse outcomes: To our knowledge, there is no information on whether the use of emergency supply items prevents adverse health outcomes. Among individuals with health conditions, it remains unclear whether preparing an emergency supply kit with adequate medications and medical supplies prevents the worsening of conditions or the need for emergency medical services

• Lack of data to support emergency supply kit recommendations: It is unclear whether having essential supplies improves self-sufficiency and lessens the need for outside assistance

This general lack of research on the efficacy and use of emergency supply kits impedes our ability to make data-driven recommendations regarding emergency supply kit promotion. The cross-sectional disaster survey and focus group(s) on the public's knowledge, preparedness, and use of emergency supply kits will identify and inform public health officials about the most useful items to include in an emergency supply kit, ideally across two different types of disasters.

Survey participants will be selected via address-based sampling in the defined geographic area impacted by the disaster and given the choice to complete the survey via paper (i.e., Teleform) or online via a web-based instrument. Survey participants will also be recruited using an existing, nonprobability web panel and be directed to the online, web-based instrument to create a larger, more cost-effective dataset. Focus group participants will be randomly selected among survey respondents and/or recruited via targeted social media (e.g., Facebook, Craigslist) to provide context and enhancement to the survey.

The estimated annualized burden is 384 hours. The estimated burden is based on conducting the survey at one site per year, taking 15 minutes per respondent via the web or 30 minutes via paper survey, and up to two focus groups in each site taking approximately five minutes for the focus group screener and two hours for the focus group. There is no cost to respondents other than their time.

Estimated Annualized Burden Hours
Type of respondents | Form name | Number of respondents | Number of responses per respondent | Average burden per response (in hours)
General public | Web survey | 667 | 1 | 15/60
| Paper survey | 333 | 1 | 30/60
| Focus group screener | 24 | 1 | 5/60
| Focus group | 24 | 1 | 2

Jeffrey M. Zirger,
Lead, Information Collection Review Office, Office of Scientific Integrity, Office of Science, Centers for Disease Control and Prevention.

[FR Doc. 2021-02549 Filed 2-5-21; 8:45 am]

BILLING CODE 4163-18-P